DEPARTMENT OF HEALTH AND HUMAN SERVICES

Office of the Secretary

[Document Identifier: OS-0990-New]

Emergency Clearance: Public Information Collection Requirements Submitted to the Office of Management and Budget (OMB)

AGENCY: Office of the Secretary.

In compliance with the requirement of section 3506(c)(2)(A) of the Paperwork Reduction Act of 1995, the Office of the Secretary (OS), Department of Health and Human Service is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Please note that we are requesting an emergency review of the information collection referenced below. In compliance with the requirement of section 3506c(2)(A) of the (OMB) the Paperwork Reduction Act of 1995, we have submitted to the Office of Management and Budget (OMB) the following requirements for emergency review. We are requesting an emergency review because the Congressional Conference Report agreement accompanying the Fiscal Year 2004 Consolidated Appropriations Act (Pub. L. 108-199), directs the Secretary to request Title X grantees to voluntarily provide the following information regarding abortions: the number of Title X-funded sites that also provide abortions with non-Federal funds. The conferees expect the Secretary to provide a report to the House and Senate appropriations committees four months after enactment of this Act summarizing the volunteered information.

Type of Information Collection Request: Emergency-Approval;

Title of Information Collection: Family Planning Survey: Title X-funded sites that also provide abortion;

Form/OMB No.: OS-0990-New;

Use: The purpose of this survey is to collect information about the number of Title X-funded family planning service delivery sites that also provide abortions with non-Federal funds. The Conference Report agreement accompanying the Fiscal Year 2004 Consolidated Appropriations Act (Pub. L. 108-199), directs the Secretary to request that Title X grantees voluntarily provide the following information regarding abortions: the number of Title X-funded sites that also provide abortions with non-Federal funds. The Conference Report language also states that the Secretary's request shall be limited to the above question with no additional information regarding the identity of the clinics or the patients receiving abortions. The Conferees directed that when the Secretary requests the information, the letter of request should contain a statement making it clear that the grantees' responses shall be voluntary and without consequence, or threat of consequence, to non-responsiveness. The conferees further directed that the records documenting this information shall be retained by the grantee, and shall not be provided to the Secretary nor any other Federal, State, or local official or entity.

This effort will involve a one-time survey of all family planning service grantees who will be requested to voluntarily provide information on all Title X supported service delivery sites (an estimated 4,600 clinic sites across the country). The summary information provided by the service grantees will then be compiled by staff in the OFP central office. After the data is collected it will be used as the basis of a report to Congress summarizing the volunteered information.

Frequency: One-Time;

Affected Public: Public agencies and non-profit organizations;

Annual Number of Respondents: 86;

Total Annual Responses: 172;

Average Burden Per Response: 2 hours;

Total Annual Hours: 172;

SUPPLEMENTARY INFORMATION: The Office of Family Planning is requesting that OMB grant a 120 day approval for this information collection under procedures for emergency processing under 5 CFR 1320.13 by May 5, 2004.

To obtain copies of the supporting statement and any related forms for the proposed paperwork collections referenced above, access the HHS Web site address at http://www.hhs.gov/oirm/infocollect/pending/ or e-mail your request, including your address, phone number, OMB number, and OS document identifier, to naomi.cook@hhs.gov, or call the Reports Clearance Office on (202) 690-6162. Written comments and recommendations for the proposed information collections must be mailed within 7 days of this notice directly to the OMB Desk Officer at the address below: OMB Desk Officer: John Kraemer, OMB Human Resources and Housing Branch, Attention: (OMB #0990-NEW), New Executive Office Building, Room 10235, Washington, DC 20201.

Dated: April 21, 2004.
Robert E. Polson,
Office of the Secretary, Paperwork Reduction Act Reports Clearance Officer.

[FR Doc. 04-9668 Filed 4-28-04; 8:45 am]

BILLING CODE 4168-17-P